DEPARTMENT OF HEALTH AND HUMAN SERVICES

National Toxicology Program (NTP): Office of Liaison, Policy, and Review; Availability of Draft NTP Technical Reports; Request for Comments; Announcement of a Panel Meeting to Peer Review Draft NTP Technical Reports

AGENCY: National Institute of Environmental Health Sciences (NIEHS); National Institutes of Health (NIH).

ACTION: Availability of Draft Reports; Request for Comments; and Announcement of a Meeting.

SUMMARY: The NTP announces the availability of draft NTP Technical Reports (TRs; available at http://ntp.niehs.nih.gov/go/36051) that will be peer-reviewed by an NTP Technical Reports Peer Review Panel at a meeting on January 26, 2011. The meeting is open to the public with time scheduled for oral public comment. The NTP also invites written comments on the draft reports (see “Request for Comments” below). Summary minutes from the peer review will be posted on the NTP Web site following the meeting.

DATES: The meeting to review the draft NTP TRs will be held on January 26, 2011. The draft NTP TRs will be available for public comment by December 8, 2010. The deadline to submit written comments is January 12, 2011, and the deadline for pre-registration to attend the meeting and/or provide oral comments at the meeting is January 19, 2011.

ADDRESSES: The meeting will be held at the Rodbell Auditorium, Rall Building, NIEHS, 111 T. W. Alexander Drive, Research Triangle Park, NC 27709. Public comments and any other correspondence on the draft TRs should be sent to Dr. Lori White, NIEHS, P.O. Box 12233, MD K2-03, Research Triangle Park, NC 27709, FAX: (919) 541-0295, or whiteld@niehs.nih.gov. Courier address: 530 Davis Drive, Room 2136, Morrisville, NC 27560. Persons needing interpreting services in order to attend should contact (301) 402-8180 (voice) or (301) 435-1908 (TTY). Requests should be made at least seven business days in advance of the meeting.

FOR FURTHER INFORMATION CONTACT: Dr. Lori White, NTP Designated Federal Officer, (919) 541-9834, whiteld@niehs.nih.gov.

SUPPLEMENTARY INFORMATION:

Preliminary Agenda Topics and Availability of Meeting Materials

The agenda topic is the peer review of the findings and conclusions of draft NTP TRs of toxicology and carcinogenicity studies. The preliminary agenda listing the draft reports and electronic files (PDF) of the draft reports should be posted on the NTP Web site by December 8, 2010. Any additional information, when available, will be posted on the NTP Web site (http://ntp.niehs.nih.gov/go/36051) or may be requested in hardcopy from the Designated Federal Officer (see ADDRESSES above). Following the meeting, summary minutes will be prepared and made available on the NTP Web site. Information about the NTP testing program is found at http://ntp.niehs.nih.gov/go/test.

Attendance and Registration

The meeting is scheduled for January 26, 2011, from 8:30 a.m. EST to adjournment and is open to the public with attendance limited only by the space available. Individuals who plan to attend are encouraged to register online at the NTP Web site (http://ntp.niehs.nih.gov/go/36051) by January 19, 2011, to facilitate access to the NIEHS campus. A photo ID is required to access the NIEHS campus. The NTP is making plans to videocast the meeting through the Internet at http://www.niehs.nih.gov/news/video/live. Registered attendees are encouraged to access the meeting page to stay abreast of the most current information regarding the meeting.

Request for Comments

The NTP invites written comments on the draft reports, which should be received by January 12, 2011, to enable review by the panel and NTP staff prior to the meeting. Persons submitting written comments should include their name, affiliation, mailing address, phone, e-mail, and sponsoring organization (if any) with the document. Written comments received in response to this notice will be posted on the NTP Web site, and the submitter will be identified by name, affiliation, and/or sponsoring organization.

Public input at this meeting is also invited, and time is set aside for the presentation of oral comments on the draft reports. In addition to in-person oral comments at the meeting at the NIEHS, public comments can be presented by teleconference line. There will be 50 lines for this call; availability will be on a first-come, first-served basis. The available lines will be open from 8:00 AM until adjournment on January 26, although public comments will be received only during the formal public comment periods indicated on the preliminary agenda. Each organization is allowed one time slot per draft report. At least 7 minutes will be allotted to each speaker, and if time permits, may be extended to 10 minutes at the discretion of the chair. Persons wishing to make an oral presentation are asked to notify Dr. Lori White via online registration at http://ntp.niehs.nih.gov/go/166, phone, or e-mail (see ADDRESSES above) by January 19, 2011, and if possible, to send a copy of the statement or talking points at that time. Written statements can supplement and may expand the oral presentation. Registration for oral comments will also be available at the meeting, although time allowed for presentation by on-site registrants may be less than that for pre-registered speakers and will be determined by the number of persons who register on-site.

Background Information on NTP Peer Review Panels

NTP panels are technical, scientific advisory bodies established on an “as needed” basis to provide independent scientific peer review and advise the NTP on agents of public health concern, new/revised toxicological test methods, or other issues. Previously, a subcommittee of the NTP Board of Scientific Counselors provided peer review of draft NTP Technical Reports. The subcommittee has been discontinued and peer review of the draft reports will now be conducted by peer review panels. These panels help ensure transparent, unbiased, and scientifically rigorous input to the program for its use in making credible decisions about human hazard, setting research and testing priorities, and providing information to regulatory agencies about alternative methods for toxicity screening. The NTP welcomes nominations of scientific experts for upcoming panels. Scientists interested in serving on an NTP panel should provide a current curriculum vita to Dr. Lori White (see ADDRESSES). The authority for NTP panels is provided by 42 U.S.C. 217a; section 222 of the Public Health Service (PHS) Act, as amended. The panel is governed by the Federal Advisory Committee Act, as amended (5 U.S.C. Appendix 2), which sets forth standards for the formation and use of advisory committees.

Dated: November 18, 2010.
John R. Bucher,
Associate Director, National Toxicology Program.

[FR Doc. 2010-29945 Filed 11-26-10; 8:45 am]

BILLING CODE 4140-01-P